ENVIRONMENTAL PROTECTION AGENCY

[FRL OP-OFA-156]

Environmental Impact Statements; Notice of Availability

Responsible Agency: Office of Federal Activities, General Information 202-564-5632 or https://www.epa.gov/nepa.

Weekly receipt of Environmental Impact Statements (EIS)

Filed December 2, 2024 10 a.m. EST Through December 9, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240229, Final, DOE, NV, ADOPTION—Rhyolite Ridge Lithium-Boron Mine Project, Contact: David A. Oster 240-457-7973. The Department of Energy (DOE) has adopted the Bureau of Land Management's Final EIS No. 20240166 filed 09/13/2024 with the Environmental Protection Agency. The DOE was a cooperating agency on this project. Therefore, republication of the document is not necessary under Section 1506.3(b)(2) of the CEQ regulations.

EIS No. 20240230, Draft, USN, USCG, USA, USAF, HI, Hawaii-California Training and Testing, Comment Period Ends: 02/11/2025, Contact: Alex Stone 808-226-3896.

EIS No. 20240231, Draft, FTA, WA, Tacoma Dome Link Extension, Comment Period Ends: 02/11/2025, Contact: Erin Littauer 206-220-7521.

EIS No. 20240232, Final, NOAA, HI, Papahānaumokuākea National Marine Sanctuary, Review Period Ends: 01/13/2025, Contact: Eric Roberts 808-725-5807.

EIS No. 20240233, Final, NOAA, FL, Florida Keys National Marine Sanctuary: Restoration, Review Period Ends: 01/13/2025, Contact: Beth Dieveney 305-797-6818.

EIS No. 20240234, Draft, BOEM, LA, Gulf of Mexico Regional OCS Oil and Gas Lease Sales, Comment Period Ends: 01/27/2025, Contact: Helen Rucker 504-736-2421.

EIS No. 20240235, Final, USACE, NE, Nebraska Highway 12 Niobrara East and West, Review Period Ends: 01/27/2025, Contact: Lee Fuerst 720-922-3840.

Amended Notice

EIS No. 20240207, Final, USCG, WA, Expansion and Modernization of Base Seattle, Washington, Review Period Ends: 01/10/2025, Contact: Dean Amundson 510-637-5541. Revision to FR Notice Published 11/15/2024; Extending the Comment Period from 12/16/2024 to 01/10/2025.

Dated: December 9, 2024.
Mark Austin,
Acting Director, NEPA Compliance Division, Office of Federal Activities.

[FR Doc. 2024-29368 Filed 12-12-24; 8:45 am]

BILLING CODE 6560-50-P